DEPARTMENT OF HOMELAND SECURITY

Coast Guard

[Docket No. USCG-2013-0696]

Certificate of Alternative Compliance for the M/V IRON STAN, 1246342

AGENCY: Coast Guard, DHS.

ACTION: Notice.

SUMMARY: The Coast Guard announces that a Certificate of Alternative Compliance was issued for the Uninspected Towing Vessel M/V IRON STAN as required by 33 U.S.C. 1605(c) and 33 CF. 81.18.

DATES: The Certificate of Alternative Compliance was issued on June 10, 2013.

ADDRESSES: The docket for this notice is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2013-0696 in the “SEARCH” box, and then clicking “Search.”

FOR FURTHER INFORMATION CONTACT: If you have questions on this notice, call LT Steven Melvin, District Nine, Prevention Branch, U.S. Coast Guard, telephone 216-902-6343. If you have questions on viewing or submitting material to the docket, call Barbara Hairston, Program Manager, Docket Operations, telephone 202-366-9826.

SUPPLEMENTARY INFORMATION:

Background and Purpose

A Certificate of Alternative Compliance, as allowed for under 33 U.S.C. 1605(c) and 33 CFR 81.18, has been issued for the M/V IRON STAN. The vessel's primary purpose is to push a passenger barge that operates on the Chicago River and a limited area of Lake Michigan, within 1 mile of shore. The unique design of the vessel did not lend itself to full compliance with Annex I of the Inland Rules Act.

The Commandant, U.S. Coast Guard, certifies that full compliance with the Inland Rules Act would interfere with the special functions/intent of the vessel and would not significantly enhance the safety of the vessel's operation. Placing the masthead light in the required position would interfere with the vessel's ability to pass under bridges on the Chicago River.

The Certificate of Alternative Compliance authorizes the M/V IRON STAN to deviate from the requirements set forth in Annex I of the Inland Rules Act, and install a lower masthead light to substitute for the ordinary pair of masthead lights. The regularly positioned masthead lights will still be installed, but will be retracted throughout its tour underneath the bridges on the Chicago River only.

This notice is issued under authority of 33 U.S.C. 1605(c), and 33 CFR 81.18.

Dated: July 30, 2013.
P. Albertson,
Captain, U.S. Coast Guard, Chief, Prevention Division, Ninth Coast Guard District.

[FR Doc. 2013-19101 Filed 8-6-13; 8:45 am]

BILLING CODE 9110-04-P